COMMODITY FUTURES TRADING COMMISSION

Request for Nominations for a Subcommittee Under the Agricultural Advisory Committee

AGENCY: Commodity Futures Trading Commission.

ACTION: Notice.

SUMMARY: The Commodity Futures Trading Commission (CFTC or Commission) is requesting nominations for membership on the Subcommittee to Evaluate Commission Policy with Respect to Implementation of Amendments to Enumerated Agricultural Futures Contracts with Open Interest (Subcommittee) under the Agricultural Advisory Committee (AAC). The AAC is a discretionary advisory committee established by the Commission in accordance with the Federal Advisory Committee Act.

DATES: The deadline for the submission of nominations is October 29, 2020.

ADDRESSES: Nominations should be emailed to AAC@cftc.gov or sent by post to Summer Mersinger, AAC Designated Federal Officer, Commodity Futures Trading Commission, Three Lafayette Centre, 1155 21st Street NW, Washington, DC 20581. Please use the title “AAC Subcommittee” for any nominations you submit.

FOR FURTHER INFORMATION CONTACT: Summer Mersinger, AAC Designated Federal Officer at (202) 418-6074 or email: AAC@cftc.gov.

SUPPLEMENTARY INFORMATION: The Subcommittee was established to provide a report to the AAC that will make recommendations to the Commission on policy related to its evaluation of implementation plans for amendments to agricultural futures contracts with open interest. Within this charge, the Subcommittee may consider, but is not limited to, the following issues and topics:

• The Commodity Exchange Act, regulations, and guidance pertaining to Designated Contract Market (DCM) requests for Commission approval of amendments to enumerated agricultural futures contracts with open interest;

• Recent history of Commission-approved amendments to futures contracts, including the term or condition amended, ability of that term or condition to impact the economic value of futures positions, rationale provided by the DCM, date announced, and date implemented;

• Terms and conditions that could impact the economic value of futures positions, what the Commission should consider in terms of evaluating the implementation plans for those amendments, and whether there could be best practices developed for implementation of any amendments to those terms or conditions; and

• Appropriate methods to make market participants and the public aware of the potential for an enumerated agricultural futures contract with open interest to be amended.

The Subcommittee will provide its report directly to the AAC and will not provide reports and/or recommendations directly to the Commission. The Subcommittee has no authority to make decisions on behalf of the AAC, and no determination of fact or policy will be made by the Subcommittee on behalf of the Commission.

Subcommittee members will generally serve as representatives and provide advice reflecting the views of stakeholder organizations and entities throughout the derivatives and financial markets. The Subcommittee may also include regular government employees when doing so furthers its purpose. It is anticipated that the Subcommittee will hold at least three in-person or telephonic meetings. Subcommittee members serve at the pleasure of the Commission. Subcommittee members do not receive compensation or honoraria for their services, and they are not reimbursed for travel and per diem expenses.

The Subcommittee members will include individuals who are members of the AAC and/or other individuals. For these other individuals who are not serving on the AAC currently, the Commission seeks nominations of individuals from a wide range of perspectives, including from industry, academia, the government, and public interest. To advise the AAC effectively, Subcommittee members must have a high level of expertise and experience with: Hedging practices in the agricultural sector and/or trading in agricultural futures contracts, including a familiarity with the terms and conditions of agricultural futures contracts; the Commodity Exchange Act, Commission regulations, and guidance thereunder. To the extent practicable, the Commission will strive to select members reflecting wide ethnic, racial, gender, and age representation.

The Commission invites the submission of nominations for Subcommittee membership. Each nomination submission should include the proposed member's name, title, organization affiliation and address, email address and telephone number, as well as information that supports the individual's qualifications to serve on the Subcommittee. The submission should also include the name, email address, and telephone number of the person nominating the proposed Subcommittee member. Self-nominations are acceptable.

Submission of a nomination is not a guarantee of selection as a member of the Subcommittee. As noted in the AAC's Membership Balance Plan, the Commission seeks to ensure that the membership of a subcommittee is balanced relative to the particular issues addressed by the subcommittee in question. The AAC Sponsor, with the assistance of the AAC Designated Federal Officer (DFO), identifies candidates for Subcommittee membership. Following the identification, the candidates who are not already serving on the AAC are submitted by the DFO to appropriate CFTC Staff for review and then to the Commission for approval.

(Authority: 5 U.S.C. App. II)

Dated: September 23, 2020.
Robert Sidman,
Deputy Secretary of the Commission.

[FR Doc. 2020-21396 Filed 9-28-20; 8:45 am]

BILLING CODE 6351-01-P